ENVIRONMENTAL PROTECTION AGENCY

[OPP-2002-0257; FRL-7275-4]

Nominations for FIFRA Scientific Advisory Panel; Request for Comments

AGENCY: Environmental Protection Agency (EPA).

ACTION: Notice.

SUMMARY: This notice provides the names, addresses, professional affiliations, and selected biographical data of persons nominated to serve on the Federal Insecticide, Fungicide, and Rodenticide Act, Scientific Advisory Panel (FIFRA)/(SAP) established under section 25(d) of the FIFRA. The Panel was created on November 28, 1975, and made a statutory Panel by amendment to FIFRA, dated October 25, 1988. Public comment on the nominations is invited, as these comments will be used to assist the Agency in selecting three new chartered Panel members.

DATES: Comments, identified by docket ID number OPP-2002-0257, must be received on or before October 28, 2002.

ADDRESSES: Comments may be submitted by mail, electronically, or in person. Please follow the detailed instructions for each method as provided in Unit I. of the SUPPLEMENTARY INFORMATION. To ensure proper receipt by EPA, it is imperative that you identify docket ID number OPP-2002-0257 in the subject line on the first page of your response.

FOR FURTHER INFORMATION CONTACT: By mail: Steven Knott, Office of Science Coordination and Policy (7201M), Environmental Protection Agency, 1200 Pennsylvania Ave., NW, Washington, DC 20460; telephone number: (202) 564-8450; fax number (202) 564-8382; e-mail address: knott.steven@epa.gov.

SUPPLEMENTARY INFORMATION:

I. General Information

A. Does This Action Apply to Me?

This action is directed to the public in general. Since other entities may also be interested, the Agency has not attempted to describe all the specific entities that may be affected by this action. If you have any questions regarding the applicability of this action to a particular entity, consult the person listed under FOR FURTHER INFORMATION CONTACT.

B. How Can I Get Additional Information, Including Copies of This Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. In person. The Agency has established an official record for this action under docket ID number OPP-2002-0257. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is availabe for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket ID number OPP-2002-0257 in the subject line on the first page of your response.

1. By mail. Submit your written comments to: Public Information and Records Integrity Branch (PIRIB), Information Resources and Services Division (7502C), Office of Pesticide Programs (OPP), Environmental Protection Agency, 1200 Pennsylvania Ave., NW., Washington, DC 20460.

2. In person or by courier. Deliver your written comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov. Do not submit any information electronically that you consider to be CBI. Use WordPerfect 6.1/8.0/9.0 or ASCII file format, and avoid the use of special characters or any form of encryption. Be sure to identify by docket ID number OPP-2002-0257. You may also file a request online at many Federal Depository Libraries.

II. Background

Amendments to FIFRA enacted November 28, 1975, include a requirement under section 25(d) that notices of intent to cancel or reclassify pesticide registrations pursuant to section 6(b)(2), as well as proposed and final forms of rulemaking pursuant to section 25(a), be submitted to FIFRA/SAP prior to being made public or issued to a registrant. In accordance with section 25(d), the FIFRA/SAP is to have an opportunity to comment on the health and environmental impact of such actions. The Panel shall also make comments, evaluations, and recommendations for operating guidelines to improve the effectiveness and quality of analyses made by Agency scientists. In accordance with the statute, the FIFRA/SAP is composed of seven permanent members, selected and appointed by the Deputy Administrator of EPA from nominees submitted by both the National Science Foundation (NSF) and the National Institutes of Health (NIH). The Agency is, at this time, selecting three new members to serve on the Panel as a result of membership terms that will expire this year. EPA's Office of Prevention, Pesticides and Toxic Substances (OPPTS) requested nominations of experts to be selected from, but not limited to, the fields of pediatric medicine, biostatistics, and toxicology/veterinary medicine. Nominees should be well published and current in their fields of expertise. The statute further stipulates that we publish the name, address, professional affiliation, and a brief biographical sketch of each nominee in the Federal Register and solicit public comments concerning the candidates nominated.

III. Charter

A Charter for the FIFRA/SAP, dated October 25, 2000, was issued in accordance with the requirements of the Federal Advisory Committee Act (FACA), Public Law 92-463, 86 Stat. 770 (5 U.S.C. App. I). The qualifications of members as provided by the Charter follow.

A. Qualifications of Members

Members are scientists who have sufficient professional qualifications, including training and experience, to be capable of providing expert comments as to the impact on health and the environment of regulatory actions under sections 6(b) and 25(a) of FIFRA. No persons shall be ineligible to serve on the Panel by reason of their membership on any other advisory committee to a Federal department or agency or their employment by a Federal department or agency (except EPA). The Deputy Administrator appoints individuals to serve on the Panel for staggered terms of 4 years. Panel members are subject to the provisions of 40 CFR part 3, subpart F, Standards of Conduct for Special Government Employees, which include rules regarding conflicts of interest. Each nominee selected by the Deputy Administrator, before being formally appointed, is required to submit a Confidential Statement of Employment and Financial Interests, which shall fully disclose, among other financial interests, the nominee's sources of research support, if any.

In accordance with section 25(d) of FIFRA, the Deputy Administrator shall require all nominees to the Panel to furnish information concerning their professional qualifications, educational background, employment history, and scientific publications. The Agency is required to publish in the Federal Register the name, address, and professional affiliations of each nominee and to seek public comment on the nominees.

B. Applicability of Existing Regulations

With respect to the requirements of section 25(d) of FIFRA that the Administrator promulgate regulations regarding conflicts of interest, the Charter provides that EPA's existing regulations applicable to special government employees, which include advisory committee members, will apply to the members of the FIFRA/SAP. These regulations appear in 40 CFR part 3, subpart F. In addition, the Charter provides for open meetings with opportunities for public participation.

C. Process of Obtaining Nominees

In accordance with the provisions of section 25(d) of FIFRA, EPA, in April 2002, requested the NIH and NSF to nominate scientists to fill three vacancies occurring on the Panel. The Agency requested nomination of experts in the fields of toxicology/veterinary medicine, clinical pediatric research, and biostatistics, and related fields. NIH and NSF responded by letter, providing the Agency with six nominees each. Three of the twelve nominees withdrew their names from consideration, because they believed their current responsibilities would preclude active participation in FIFRA/SAP meetings.

IV. Nominees

The following are the names, addresses, professional affiliations, and selected biographical data of nominees being considered for membership on the FIFRA/SAP. The Agency expects to select three of the nominees to fill three vacancies occurring during the calendar year 2002.

A. Nominations for the Field of Toxicology/Veterinary Medicine

1. Nominee. Faustman, Elaine M., Ph.D., D.A.B.T., Professor and Director, Institute for Risk Analysis and Risk Communication, School of Public Health and Community Medicine, University of Washington.

i. Expertise. Reproductive and developmental toxicology of metals, in vitro and molecular biological methodologies, quantitative risk assessment.

ii. Education. A.B. Chemistry and Zoology, Hope College, 1976; Ph.D., Pharmacology/Toxicology, Michigan State University, 1980; post-doctoral studies in Toxicology and Environmental Pathology, School of Medicine, University of Washington.

iii. Professional experience. Dr. Faustman has served on the National Institute of Environmental Health Sciences/National Toxicology Program (NIEHS-NTP) Board of Scientific Counselors and the National Academy of Sciences Committee in Toxicology. She has also served as Associate Editor of Fundamental and Applied Toxicology and on the editorial boards of Reproductive Toxicology and Toxicology Methods. Dr. Faustman is the Director of EPA-NIEHS funded Child Health Care Center which is evaluating key mechanisms defining children's susceptibility to pesticides. She is an elected Fellow of the American Association for the Advancement of Science, and has recently served as Chair for the American Academy of Sciences Committee on Developmental Toxicology. She is a member of the NIEHS-NTP Committee on Alternative Toxicology Methods.

2. Nominee. Froines, John R., Ph.D., Professor, Department of Environmental Health Sciences, UCLA School of Public Health; Director, UCLA Center for Occupational and Environmental Health; Director, Southern California Particle Center and Supersite.

i. Expertise. Chemical toxicology and risk assessment, biomarkers and toxicokinetics of chemical carcinogens, policy and priorities in environmental and occupational health.

ii. Education. B.S. Chemistry, University of California, Berkeley, 1963; M.S., Physical-Organic Chemistry, Yale University, 1964; Ph.D., Physical-Organic Chemistry, Yale University, 1967.

iii. Professional experience. Dr. Froines has served on the National Academy of Sciences (NAS) Committee on Environmental Epidemiology, including principal authorship of two chapters on exposure assessment in two NAS reports. He has served as chair of the Advisory Panel for the Office of Technology Assessment project, “Gauging Control Technology and Regulatory Impacts in Occupational Safety and Health” (1992-1995). He has served on the Federal Committee to the Department of Energy (DOE) on the Beryllium Standard (1997-1998), on the Carcinogen Identification Committee (1995-2001), and the President's (University of California U.C.) committees on health, safety, and environmental concerns with the three national laboratories managed by U.C. Dr. Froines is presently Chairman of the Scientific Review Panel, Air Resources Board; member of the National Toxicology Program Board of Scientific Counselors; member of several committees of the South Coast Air Quality Management District in southern California, and a member of the Scientific Advisory Board, Center for Vulnerable Populations Research.

3. Nominee. Isom, Gary E., Ph.D., Professor of Toxicology, Vice President for Research, and Dean of the Graduate School, Purdue University.

i. Expertise. Chemical and cyanide toxicology and related neurological disorders.

ii. Education. B.S., Pharmacy, Idaho State University, Ph.D., Pharmacology, Washington State University, 1973.

iii. Professional experience. Associate Professor of Toxicology at Idaho State University and at Purdue University. Dr. Isom has served on numerous review panels for NIH and NSF. He has published in the journals Toxicology and Applied Pharmacology, Journal of Neurochemistry, Neurotoxicology, and the Journal of Pharmacology and Experimental Therapeutics. Dr. Isom presently serves on the Advisory Committee for the Engineering Directorate at NSF. In 1999 he was appointed to the Science and Technology Advisory Board of the Defense Intelligence Agency.

4. Nominee. Russell, Stephen W., D.V.M., Ph.D., Wilkinson Distinguished Professor of Cancer Research, University of Kansas Cancer Center, University of Kansas Medical Center, Kansas City, KS (emeritus since 2001).

i. Expertise. Immunopathology.

ii. Education. B.S. Enology, University of California, Davis, 1960; D.V.M., UC Davis, 1966; Ph.D., Comparative Pathology, UC Davis, 1972; postdoctoral fellowship, Scripps Clinic and Research Foundation, immunopathology, 1972-1973.

iii. Professional experience. Dr. Russell has served as member and as Chair of the Animal Resources Review Committee of NIH (1986-1990). He has served on a Special Review Committee on Animal Models of Solid Tumors for NIH; the Immunological Sciences Review Panel, US Army Breast Cancer Research Program; and on the Board of Scientific Counselors, National Center for Research Resources, NIH. Dr. Russell has served on editorial boards of, and has published in, several professional journals, including Journal of Leucocyte Biology, Journal of Immunology, Yearbook of Pathology and Clinical Pathology, Infection and Immunity, and Gene. Dr. Russell was Director of the University of Kansas Cancer Center, University of Kansas Medical Center, Kansas City, KS from 1991-1995. He was Associate Director for Research at the University of Kansas Cancer Center from 1987-1991. From 1980-1987 he was Professor and Chairman of the Department of Comparative and Experimental Pathology, College of Veterinary Medicine, and Professor, Departments of Pathology and Immunology and Medical Microbiology, College of Medicine, University of Florida, Gainesville, FL.

B. Nominations for the Field of Clinical Pediatrics Research

1. Nominee. Frank, Michael M., M.D., Professor and Chairman, Department of Pediatrics; Professor of Medicine; Professor of Immunology, Duke University.

i. Expertise. Pediatric Immunology and Toxicology.

Education. A.B., Zoology, University of Wisconsin, 1956; M.D., Harvard Medical School, 1960.

ii. Professional experience. Chief, Laboratory of Clinical Investigation, National Institute of Allergy and Infectious Diseases, National Institutes of Health, 1977-1990; Clinical Director, NIAID, NIH, 1977-1990; Head, Clinical Immunology Section, Laboratory of Clinical Investigation, NIAID, NIH, 1971-1990; Senior Investigator, LCI, NIAID, NIH, 1968-1971. Dr. Frank has served on editorial boards of, and has published in, several professional journals, including Journal of Immunology, Journal of Clinical Investigation, Blood, Reviews in Infectious Diseases, Current Opinions in Pediatrics, and Medicine.

2. Nominee. Handwerger, Stuart, M.D., Director of Endocrinology, Cincinnati Children's Hospital Medical Center, Cincinnati, OH; Robert and Mary Shoemaker Professor of Pediatrics and Professor of Cell Biology, Neurobiology and Anatomy, University of Cincinnati College of Medicine, Cincinnati, OH.

i. Expertise. Placental and uterine biology, fetal and reproductive endocrinology, diagnosis and treatment of growth disorders.

ii. Education. B.A., Biological Sciences, Johns Hopkins University, Baltimore, MD, 1960; M.D., University of Maryland, Baltimore, MD, 1964.

iii. Professional experience. Professor of Cell Biology, Neurobiology and Anatomy, Senior Member, Developmental Biology Program, Member, Barrett Cancer Center, University of Cincinnati College of Medicine, 1990 to present; Director, Post-Doctoral Training, Department of Pediatrics, Cincinnati Children's Medical Center, Cincinnati, OH 1993 to present. Dr. Handwerger was Director of the Division of Endocrinology, Department of Pediatrics, Duke University School of Medicine, Durham, NC, 1979 to 1990. During this same time period, he was a Senior Member, Duke Comprehensive Cancer Center, Duke University School of Medicine.

C. Nominations for the Field of Biostatistics

1. Nominee. Bailer, A. John, Ph.D., Professor, Department of Mathematics and Statistics, and affiliate member, Department of Zoology, Miami University, Oxford, OH.

i. Expertise. Biostatistics, risk estimation and characterization.

ii. Education. B.S., Mathematics and Statistics, 1978; B.A., Psychology, 1982, Miami University, Oxford, OH; M.A., Quantitative Psychology, University of North Carolina, Chapel Hill, 1984; Ph.D., Biostatistics, University of North Carolina, Chapel Hill, 1986.

iii. Professional experience. Professor of Statistics, Miami University, Oxford, OH, 1988 to present; invited participant in technical workshop on Whole-Effluent Toxicity sponsored by the Society of Environmental Toxicology and Chemistry, September 1995; member on two subcommittees of the Board of Scientific Counselors of the National Toxicology Program, 1997 to 2000; member of International Statistical Institute risk assessment committee, 2000 to present; member of statistics subcommittee at NIEHS/NTP Low Dose Peer Review for Endocrine Disruptors, Research Triangle, NC, 2000; member of National Research Council Subcommittee Toxologic Assessment of Low-Level Exposures to Chemical Warfare, 2001 to present; consultant to NAS committee “Implications of Dioxin in the Food Supply” 2001.

2. Nominee. Doerge, Rebecca W., Ph.D., Associate Professor of Agronomy and Statistics, Purdue University, West Lafayette, IN.

i. Expertise. Statistical genomics, biostatistics.

ii. Education. B.S., Mathematics, University of Utah, 1986; M.Stat., University of Utah, 1988; Ph.D., Statistics, North Carolina State University, 1993; post-doctoral fellow, Department of Biometrics and Plant Breeding, Cornell University, 1995.

iii. Professional experience. Dr. Doerge has won awards for her teaching skills, among them, Outstanding Teacher of Undergraduates in the School of Science, Purdue University, 1998. Dr. Doerge has published in Endocrinology, Journal of Immunology, American Journal of Pathology, Statistical Science, Heredity, Genetics, and Trends in Genetics. She will co-chair a meeting on Quantitative Genetics and Genomics, in February 2003.

3. Nominee. Heeringa, Steven G., Ph.D., Director of the Division of Surveys and Technologies, Institute for Social Research, University of Michigan, Ann Arbor, MI.

i. Expertise. Statistical methods, design and analysis.

ii. Education. Ph.D., Biostatistics, University of Michigan.

iii. Professional experience Dr. Heeringa has over 25 years of statistical sampling experience, directing the development of the Michigan Institute for Social Research (ISR), national sample design as well as sample designs for ISR's major longitudinal and cross-sectional survey programs. During this period he has been actively involved in research in statistical methods and procedures such as weighting, variance estimation and the imputation of missing data that are required in the analysis of sample survey data. His publications in these areas have been extensive. He has served as an advisor to panels of the NIH and the World Health Organization (WHO). Since 2000, Dr. Heeringa has served as an ad hoc member of more than 10 EPA scientific review panels. He teaches survey sampling methods internationally, and serves as a sample design consultant to a wide variety of international research programs.

List of Subjects

Environmental protection, Pesticide and pests.

Dated: September 19, 2002.
Joseph Merenda,
Director, Office of Science Coordination and Policy.

[FR Doc. 02-24647 Filed 9-26-02; 8:45 am]

BILLING CODE 6560-50-S